DEPARTMENT OF THE INTERIOR

National Park Service

Golden Gate National Recreation Area Notice of Public Meetings For Calendar Year 2005

Notice is hereby given that public meetings of the Golden Gate National Recreation Area will be scheduled quarterly for calendar year 2005 to hear presentations on issues related to management of the Golden Gate National Recreation Area. These public meetings are scheduled for the following dates at San Francisco and at locations yet to be determined in San Mateo County and Marin County, California:

Tuesday, January 18—San Francisco, CA

Tuesday, April 19—Location TBA

Tuesday, July 19—Location TBA

Tuesday, October 18—Location TBA, or

Tuesday, November 15—Location TBA

All public meetings will be held at 7 p.m. at GGNRA Part Headquarters, Building 201, Fort Mason, Bay and Franklin Streets, San Francisco, except those which will be held at 7 p.m. at locations to be announced (TBA) in San Mateo County and Marin County, California. Information confirming the time and location of all public meetings or cancellations of any meetings can be received by calling the Office of the Public Affairs at (415) 561-4733 or (415) 561-4730.

Anticipated possible agenda items at meetings during calendar year 2005 may include:

• Updates on the Negotiated Rulemaking Process (Reg-Neg) for dog management and concurrent NEPA process

• Updates on Planning Issues for Fort Baker

• Doyle Drive Planning Update

• Updated on Marin Comprehensive Transportation Management Planning

• Reports on Water Transportation Planning to Park Sites

• Update on Golden Gate Bridge Seismic Upgrade Project and Park Impacts

• Update on the Trails Forever Initiative

• Reports on GGNRA education programs

• Update on Crissy Field projects

• Updates on the Sutro Design Plan, including transportation issues and planning for the Merrie Way Visitor Center

• Update Reports on Fort Mason Center Pier One and Pier 3 Seismic Work

• Updates on Site Stewardship Program

• Golden Gate National Parks Conservancy annual briefing

• Redwood Creek Watershed Planning

• Reports on Alcatraz Historic Preservation and Safety Construction Phase II

• Update on park expansion legislation

• Update on transfer of properties within GGNRA boundary to NPS management

• Issues affecting San Mateo County national park lands, including updates on the Jefferson-Martin 230kV Transmission Line and Mori Point Restoration

• Update reports on “Park Partner” programs, including the California Marine Mammal Center Improvements

• Updates on Fort Mason Reuse projects and Upper Fort Mason planning

• Update on internal scoping for the park General Management Plan (GMP)

These meetings will also contain Superintendent's Report on timely park issues and events and will be led by a facilitator. Specific final agendas for these meetings will be made available to the public at least 15 days prior to each meeting and can be received by contacting the Office of the Staff Assistant, Golden Gate National Recreation Area, Building 201, Fort Mason, San Francisco, California 94123 or by calling (415) 561-4733. They are also noticed on the Golden Gate National Recreation Area Web site http://nps.gov/goga under the section “Public Meetings”.

All meetings are open to the public. They will be recorded for documentation and transcribed for dissemination. Sign language interpreters are available by request at least one week prior to a meeting. The TDD phone number for these requests is (415) 556-2766. A verbatim transcript will be available three weeks after each meeting. For copies of the agendas contact the Office of the Staff Assistant, Golden Gate National Recreation Area, Building 201, Fort Mason, San Francisco, California 94123.

Dated: December 21, 2004.
Rich Weideman,
Acting General Superintendent, Golden Gate National Recreation Area.

[FR Doc. 05-353 Filed 1-6-05; 8:45 am]

BILLING CODE 4312-FN-M